DEPARTMENT OF JUSTICE

Antitrust Division

Notice Pursuant to the National Cooperative Research and Production Act of 1993; Application Service Provider Industry Consortium, Inc.

Notice is hereby given that, on July 28, 1999, pursuant to section 6(a) of the National Cooperative Research and Production Act of 1993, 15 U.S.C. 4301 et seq. (“the Act”), Application Service Provider Industry Consortium, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are AT&T, San Jose, CA; AristaSoft Corp., Mountain View, CA; Boundless Technologies, Inc., Hauppauge, NY; Cisco Systems, Inc., San Jose, CA; Citrix Systems, Inc., Ft. Lauderdale, FL; Compaq Computer Corporation, Marlborough, MA; CyLex Systems, Inc., Boca Raton, FL, Ernst & Young, Calgary, Alberta, CANADA; Exodus Communications, Inc., Santa Clara, CA; FutureLink Distribution Corp., Calgary, Alberta, CANADA; GTE, Irving, TX; Great Plains Software, London, Ontario, CANADA; IBM Corp., White Plains, NY; Interpath Communications, Inc., RTP, NC; JAWS Technologies, Inc., Calgary, Alberta, CANADA; Marimba, Inc., Mountain View, CA; Onyx Software Corp., Bellevue, WA; SaskTel, Regina, Saskatchewan, CANADA; Sharp Electronics Corp., Mahwah, NJ; Sun Microsystems, Palo Alto, CA; Taylor Group, Bedford, NH; Telecomputing, Fort Lauderdale, FL; UUNET, Fairfax, VA; Verio, Englewood, CO; WYSE, San Jose, CA; Breakaway Solutions, Inc., Boston, MA; Daleen Technologies, Inc., Boca Raton, FL; ebaseOne Corp., Houston, TX; GraphOn Corp., Campbell, CA; National Semiconductor, Santa Clara, CA; Progress Software, Bedford, MA; Xanthon, Inc., Salt Lake City, UT; AboveNet, San Jose, CA; BlueSky, Delray Beach, FL; Interliant, Houston, TX; Mincom Limited, Brisbane, Q'Land, AUSTRALIA; US West, Denver, CO; Softblox, Atlanta, GA; Documentum, Pleasanton, CA; Netstore Group Ltd., Bracknell, Berkshire, UNITED KINGDOM; Learningstation.com, Charlotte, NC; SCO, Cambridge, UNITED KINGDOM; NaviSite, Inc., Andover, MA; Fujitsu Limited, Tokyo, JAPAN; Professional Advantage, North Sydney NSW, AUSTRALIA; Lucent Technologies, Warren, NJ; MetaSolv Software, Inc., Plano, TX; Microsoft Corporation, Redmond, WA; L.I.M.S. (USA) Inc., Hollywood, FL; Solution 6 Pty Ltd., Sydney, NSW, AUSTRALIA; Ensim Corporation, Mountain view, CA; Data General, Westboro, MA; Digital Island, Inc., San Francisco, CA; EpiCON, Inc., Waltham, MA; Sprint Corporation, Dallas, TX; Network Computing Devices, Mountain View, CA; Packeteer, Inc., Cupertino, CA; FirstSense Software, Inc., Burlington, MA; National Payroll Systems Pty Ltd., Malvern, Victoria, AUSTRALIA; Esoft Ltd., Stockport, Cheshire, UNTIED KINGDOM; Nortel Networks, RTP, NC; ChoicePoint, Tipton, PA; Hewlett-Packard, Roseville, CA; NTT America, Inc., Mountain View, CA; Imago ASP Services, Lenexa, KS; CIBER Enterprise Outsourcing, Columbia, SC; EMC,² Hopkinton, MA; Unisys, Blue Bell, PA; Aventail Corp., Seattle, WA; Netier Technologies, Inc., Carrollton, TX; Data Return Corporation, Arlington, TX; BCA it Ltd., Melbourne, Victoria, AUSTRALIA; SunGard Computer Services Inc., Wayne, PA; PBM Corp., Cleveland, OH; Eggrock Partners, LLC, Concord, MA; International Energy Services, Inc., Houston, TX; JustOn, Santa Clara, CA; Deloitte Consulting, East Brunswick, NJ; Madge Networks Ltd., Wexham, Slough, ENGLAND; X-Collaboration Software Corporation, Boston, MA; Abatis Systems Corporation, Burnaby, British Columbia, CANADA; ELF Technologies, Inc., Mercer Island, WA; Enterprise Development Services, Atlanta, GA; Compuware Corporation, Campbell, CA; Sequent Computer Systems, Beaverton, OR; Imagecom, Arlington Heights, IL; Avnet, Tempe, AZ; and Prologue Software, Les Ulis, FRANCE. The nature and objectives of the venture are to educate the market worldwide about the benefits of the ASP industry, provide common definitions for the industry, serve as a forum for discussion of issues that are related to, or may further, such goals, sponsor industry research, establish interoperability guidelines, and engage in such other activities (e.g., certification and/or branding programs) as may further such goals.

Constance K. Robinson,
Director of Operations, Antitrust Division.

[FR Doc. 00-6961 Filed 3-20-00; 8:45 am]

BILLING CODE 4410-01-M